NUCLEAR REGULATORY COMMISSION

[Docket No. NRC-2013-0087]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on June 3, 2013 (78 FR 33116).

1. Type of submission, new, revision, or extension: Extension.

2. The title of the information collection: NRC Forms 366, 366A, and 366B, “Licensee Event Report.”

3. Current OMB approval number: 3150-0104.

4. The form number if applicable: NRC Forms 366, 366A, and 366B.

5. How often the collection is required: As needed per § 50.73 of Title 10 of the Code of Federal Regulations (10 CFR), “Licensee event report system.” The total number of reports is estimated to be 350 per year.

6. Who will be required or asked to report: The holder of an operating license under 10 CFR Part 50 or a combined license under 10 CFR Part 52 (after the Commission has made the finding under § 52.103(g)).

7. An estimate of the number of annual responses: 350.

8. The estimated number of annual respondents: 104.

9. An estimate of the total number of hours needed annually to complete the requirement or request: 28,000 hours.

10. Abstract: Part of the NRC's function is to license and regulate the operation of commercial nuclear power plants to ensure protection of public health and safety and the environment in accordance with the Atomic Energy Act of 1954 (the Act) as amended. In order for the NRC to carry out these responsibilities, licensees must report significant events in accordance with 10 CFR 50.73, so that the NRC can evaluate the events to determine what actions, if any, are warranted to ensure protection of public health and safety or the environment. Section 50.73 requires reporting on NRC Forms 366, 366A, and 366B.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice. Comments and questions should be directed to the OMB reviewer listed below by October 10, 2013. Comments received after this date will be considered if it is practical to do so, but assurance of consideration cannot be given to comments received after this date.

Chad Whiteman, Desk Officer, Office of Information and Regulatory Affairs (3150-0104), NEOB-10202, Office of Management and Budget, Washington, DC 20503.

Comments can also be emailed to Chad_S_Whiteman@omb.eop.gov or submitted by telephone at 202-395-4718.

The NRC Clearance Officer is Tremaine Donnell, telephone: 301-415-6258.

Dated at Rockville, Maryland, this 4th day of September, 2013.
For the Nuclear Regulatory Commission.
Tremaine Donnell,
NRC Clearance Officer, Office of Information Services.

[FR Doc. 2013-21964 Filed 9-9-13; 8:45 am]

BILLING CODE 7590-01-P